DEPARTMENT OF ENERGY

Federal Energy Regulatory Commission

[Docket No. CP97-168-005]

Alliance Pipeline L.P.; Notice of Amendment

September 8, 2000.

Take notice that on August 28, 2000, Alliance Pipeline L.P. (Alliance), 605-5th Avenue SW., Calgary, Alberta, Canada T2P 3H5, filed, pursuant to Section 7(c) of the Natural Gas Act (NGA) and Part 157 of the Federal Energy Regulatory Commission's (Commission) Regulations, in Docket No. CP97-168-005 for an amendment of the certificate of public convenience and necessity issued to Alliance on September 17, 1998, in Docket No. CP97-168-000, et al.,¹ to delete the authority to: (1) Construct and operate an interconnection with Natural Gas Pipline Company (NGPL); and (2) install a spare, backup compressor unit at the Tampico compressor station, all as more fully set forth in the application which is on file with the Commission and open to public inspection. This filing may be viewed on the web at http://www.ferc.fed.us/online/rims.htm (call 202-208-2222 for assistance).

¹ Alliance pipeline L.P., 84 FERC ¶ 61,239 (1998).

Any questions regarding the application should be directed to Mr. William A. Williams, Attorney for Alliance, Fulbright & Jaworski L.L.P., 801 Pennsylvania Avenue NW., Washington, DC 20004-2615, or call (202) 662-4673.

Alliance states that the NGPL interconnect and the spare compressor unit at the Tampico compressor station that were authorized in the September 17, 1998 order are no longer needed. The NGPL interconnect is no longer required because NGPL was granted authority, on June 7, 1999, in Docket No. CP99-546,² to construct and operate alternative interconnect facilities which, among other things, provide the capability for Alliance to deliver to NGPL up to 1.6 Bcfd, the same level authorized by the Alliance certificate order.

² Natural Gas Pipeline Company, 90 FERC ¶ 62,013 (2000).

Additionally, Aux Sable Liquid Products L.P. (Aux Sable) has decided to construct a twin-train processing plant, as opposed to its originally contemplated one-train facility. Alliance explains that the redundancy built into the two-train design results in excess compression capability within the Aux Sable plant when both trains are operational. Alliance states that it may meet any need for spare or backup compression capability by utilizing the redundant compression capability within the Aux Sable plant.

Alliance states that, in its calculation of the initial rates filed in its August 4, 2000, application in Docket No. CP97-168-004, et al., Alliance has reflected both the savings associated with the deletion of the spare unit at Tampico and the actual costs attributable to the alternative interconnect approved in the NGPL proceeding. Alliance argues that, while there may be costs associated with Alliance's use of the compression capability within the Aux Sable plant, it is far more cost effective and efficient for Alliance to rely upon that excess Aux Sable plant compression than to incur the $14 million capital cost of the spare unit at Tampico.

Alliance concludes that because this application involves the deletion of facilities previously certificated there will be no negative impact on the environment and no landowner will be affected. Additionally, Alliance avers that deletion of the subject facilities will have no effect upon Alliance's presently certificated services as the NGPL interconnect is replaced by an alternate interconnect with the same capability to deliver 1.6 Bcfd to NGPL, and, since no authorization had been granted to operate the spare compressor unit at Tampico, its elimination likewise has no effect on Alliance's ability to provide service to its customers.

Any person desiring to participate in the hearing process or to make any protest with reference to said application should on or before September 29, 2000, file with the Federal Energy Regulatory Commission, Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's Rules.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that formal hearing is required, further notice of such hearing will be duly given.

Under the procedure provided for, unless otherwise advised, it will be unnecessary for Alliance to appear or be represented at the hearing.

David P. Boergers,
Secretary.

[FR Doc. 00-23599 Filed 9-13-00; 8:45 am]

BILLING CODE 6717-01-M